INTER-AMERICAN FOUNDATION BOARD

Sunshine Act Meetings

TIME AND DATE: June 6, 2011, 9 a.m.-1:30 p.m.

PLACE: 901 N. Stuart Street, Tenth Floor, Arlington, Virginia 22203.

STATUS: Open session.

MATTERS TO BE CONSIDERED: • Approval of the Minutes of the March 28, 2011, Meeting of the Board of Directors

• Strategic Plan

• Advisory Council

• Next Meetings

PORTIONS TO BE OPEN TO THE PUBLIC: • Approval of the Minutes of the March 28, 2011, Meeting of the Board of Directors

• Strategic Plan

• Advisory Council

• Next Meetings

PORTIONS TO BE CLOSED TO THE PUBLIC: • None

CONTACT PERSON FOR MORE INFORMATION: Jennifer Hodges Reynolds, (703) 306-0002.

Jennifer Hodges Reynolds,
General Counsel.

[FR Doc. 2011-12961 Filed 5-20-11; 4:15 pm]

BILLING CODE 7025-01-P